DEPARTMENT OF HEALTH AND HUMAN SERVICES

Office of the Secretary

[Document Identifier: HHS-OS-18280-30D]

Agency Information Collection Activities; Submission to OMB for Review and Approval; Public Comment Request

AGENCY: Office of the Secretary, HHS.

ACTION: Notice.

SUMMARY: In compliance with section 3507(a)(1)(D) of the Paperwork Reduction Act of 1995, the Office of the Secretary (OS), Department of Health and Human Services, has submitted an Information Collection Request (ICR), described below, to the Office of Management and Budget (OMB) for review and approval. The ICR is for renewal of the approved information collection assigned OMB control number 0990-0308, scheduled to expire on June 30, 2013. Comments submitted during the first public review of this ICR will be provided to OMB. OMB will accept further comments from the public on this ICR during the review and approval period.

DATES: Comments on the ICR must be received on or before June 10, 2013.

ADDRESSES: Submit your comments to OIRA_submission@omb.eop.gov or via facsimile to (202) 395-5806.

FOR FURTHER INFORMATION CONTACT: Information Collection Clearance staff, Information.CollectionClearance@hhs.gov or (202) 690-6162.

SUPPLEMENTARY INFORMATION: When submitting comments or requesting information, please include the OMB control number 0990-0308 and document identifier HHS-OS-18280-30D.

Information Collection Request Title: The Effect of Reducing Falls on Acute and Long-Term Care Expenses.

OMB No.: 0990-0308.

Abstract: ASPE is conducting a demonstration and evaluation of a multi-factorial fall prevention program to measure its impact on health outcomes for the elderly as well as acute and long-term care use and cost. The study is being conducted among a sample of individuals with private long-term care insurance who are age 75 and over using a multi-tiered random experimental research design to evaluate the effectiveness of the proposed fall prevention intervention program. The project began in Spring 2008 and is expected to be completed in December 2014.

Need and Proposed Use of the Information: The project will provide information to advance Departmental goals of reducing injury and improving the use of preventive services to positively impact Medicare use and spending.

Likely Respondents: Adults age 75 or older.

Burden Statement: Burden in this context means the time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours estimated for this ICR are summarized in the table below.

Total Estimated Annualized Burden—Hours
Forms (if necessary) | Type of respondent | Number of respondents | Number of responses per respondent | Average burden hours per response | Total burden hours
Initial Telephone Screen | Active Control Group (ACG)/Experimental Group (EG) | 835 | 1 | 20 minutes | 278
In-person interview | EG | 435 | 1 | 1.25 hours | 544
Jump start phone call | EG | 435 | 1 | 30 minutes | 218
Quarterly phone calls | ACG/EG | 835 | 4 | 10 minutes | 556
Final Telephone Screen | ACG/EG | 167 | 1 | 20 minutes | 56
Final In-person interview | EG | 167 | 1 | 1.25 hours | 209
Total |  |  |  |  | 1861

Keith A. Tucker,
Information Collection Clearance Officer.

[FR Doc. 2013-11177 Filed 5-9-13; 8:45 am]

BILLING CODE 4150-39-P